FEDERAL COMMUNICATIONS COMMISSION

47 CFR Part 73

[DA 03-3551; MB Docket No. 03-232, RM-10819]

Radio Broadcasting Services; Ahoskie, North Carolina and Chase City, Virginia, and Creedmoor, Gatesville, and Nashville, NC

AGENCY: Federal Communications Commission.

ACTION: Proposed rule.

SUMMARY: This document sets forth a proposal to amend the FM Table of Allotments, Section 73.202(b) of the Commission's rules, 47 CFR 73.202(b). The Commission requests comment on a petition filed by Joyner Radio, Inc., licensee of Station WFXQ(FM), Chase City, Virginia. Petitioner proposes to delete Channel 260C3 at Chase City, Virginia to allot Channel 260C3 at Creedmoor, North Carolina, and to modify the license of Station WFXQ(FM) accordingly. In order to facilitate the allotment of Channel 260C3 at Creedmoor, petitioner proposes the substitution of Channel 257A for Channel 259A at Nashville, North Carolina, and the modification of the license of Station WZAX(FM) accordingly. Finally, in order to accommodate the substitution of Channel 257A at Nashville, petitioner requests the deletion of Channel 257A at Ahoskie, North Carolina, the addition of Channel 257A at Gatesville, North Carolina, and the modification of the license of FM Station WQDK accordingly. Channel 260C3 can be allotted at Creedmoor in compliance with the Commission's minimum distance separation requirements with a site restriction of 16.3 km (10.1 miles) east of Creedmoor. The coordinates for Channel 260C3 at Creedmoor are 36-06-56 North Latitude and 78-30-22 West Longitude. Channel 257A can be allotted at Gatesville in compliance with the Commission's minimum distance separation requirements with a site restriction of 12.9 km (8.0 miles) south of Gatesville. The coordinates for Channel 257A at Gatesville are 36-17-02 North Latitude and 76-43-40 West Longitude. Channel 257A can be allotted at Nashville in compliance with the Commission's minimum distance separation requirements at the current reference coordinates for Channel 259A. See Supplementary Information infra.

DATES: Comments must be filed on or before January 5, 2004, and reply comments on or before January 20, 2004.

ADDRESSES: Federal Communications Commission, Washington, DC 20554. In addition to filing comments with the FCC, interested parties should serve counsel for the petitioner as follows: Gregg P. Skall, Peter Gutmann, Joan Stewart, Womble Carlyle Sandridge & Rice, PLLC, 1401 Eye Street, NW.—Seventh Floor, Washington, DC 20005.

FOR FURTHER INFORMATION CONTACT: Deborah A. Dupont, Media Bureau (202) 418-7072.

SUPPLEMENTARY INFORMATION: This is a synopsis of the Commission's Notice of Proposed Rule Making, MB Docket No. 03-232, adopted November 12, 2003 and released November 14, 2003. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20554, telephone (202) 863-2893.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under North Carolina, is amended by removing Ahoskie, Channel 257A, by adding Creedmoor, Channel 260C3, by adding Gatesville, Channel 257A, and by removing Channel 259A and by adding Channel 257A at Nashville.

3. Section 73.202(b), the Table of FM Allotments under Virginia, is amended by removing Chase City, Channel 260C3.

Federal Communications Commission.
John A. Karousos,
Assistant Chief, Audio Division, Media Bureau.

[FR Doc. 03-29628 Filed 11-26-03; 8:45 am]

BILLING CODE 6712-01-P